ENVIRONMENTAL PROTECTION AGENCY

[EPA-HQ-SFUND-2005-0008; FRL-9980-75-OLEM]

Proposed Information Collection Request; Comment Request; Emergency Planning and Release Notification Requirements (EPCRA Sections 302, 303, and 304); (EPA ICR No. 1395.10, OMB Control No. 2050-0092)

AGENCY: Environmental Protection Agency (EPA).

ACTION: Notice.

SUMMARY: The Environmental Protection Agency is planning to submit an information collection request (ICR), “Emergency Planning and Release Notification Requirements (EPCRA sections 302, 303, and 304).” (EPA ICR No. 1395.10, OMB Control No. 2050-0092) to the Office of Management and Budget (OMB) for review and approval in accordance with the Paperwork Reduction Act. Before doing so, EPA is soliciting public comments on specific aspects of the proposed information collection as described below. This is a proposed extension of the ICR, which is currently approved through December 31, 2018. An Agency may not conduct or sponsor and a person is not required to respond to a collection of information unless it displays a currently valid OMB control number.

DATES: Comments must be submitted on or before September 17, 2018.

ADDRESSES: Submit your comments, referencing Docket ID No. EPA-HQ-SFUND-2005-0008, to (1) EPA online using www.regulations.gov (our preferred method), by email to superfund.docket@epa.gov or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Wendy Hoffman, Office of Emergency Management, Mail Code 5104A, Environmental Protection Agency, 1200 Pennsylvania Ave. NW, Washington, DC 20460; telephone number: (202) 564-8794; email address: hoffman.wendy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The authority for the emergency planning and emergency release notification requirements is Sections 302, 303, and 304 of the Emergency Planning and Community Right-to-Know Act (EPCRA) 1986 (42 U.S.C. 11002, 11003, and 11004). EPCRA established broad emergency planning and facility reporting requirements. Section 302 requires facilities to notify their state emergency response commission (SERC) and the local emergency planning committee (LEPC) that the facility is subject to emergency planning. This activity was completed soon after the law was passed. Only new facilities that may become subject to these requirements must notify the SERC and the LEPC. Currently covered facilities are required to notify the LEPC of any changes that occur at the facility which would be relevant to emergency planning. Section 303 requires the LEPC to prepare local emergency response plans for their planning district using the information provided by facilities under Section 302. LEPC may request any information from facilities necessary to develop emergency response plans. Emergency response plans were developed within a few months after the law was passed. LEPCs are required to review and update the plan at least annually or more frequently as changes occur in the community. Section 304 requires facilities to report to SERCs and LEPCs releases in excess of the reportable quantities listed for each extremely hazardous substance (EHS). This ICR also covers the notification and the written follow-up required under Section 304. The implementing regulations are codified in 40 CFR part 355.

Form Numbers: None.

Respondents/Affected Entities: Entities potentially affected by this action are those which have a threshold planning quantity of an extremely hazardous substance (EHS) listed in 40 CFR part 355, Appendix A and those which have a release of any of the EHSs above a reportable quantity. Entities more likely to be affected by this action may include chemical manufacturers, retailers, petroleum refineries, utilities, etc.

Respondent's Obligation To Respond: Mandatory under EPCRA Sections 302, 303 and 304.

Estimated Number of Respondents: 108,556.

Frequency of Response: EPCRA Section 302 reporting is a one-time notification unless there are changes to the reported information; EPCRA Section 304 notification is only when a release occurs from a facility.

Total Estimated Burden: 259,456 hours (per year). Burden is defined at 5 CFR 1320.03(b).

Total Estimated Cost: $10.85 million (per year), including $68,867 annual operations and maintenance costs. There are no capital costs associated with this ICR.

Changes in Estimates: The number of facilities subject to Section 302 is 95,000, which is the same as in the previous ICR. There is an increase of 4,500 hours in the total estimated respondent burden compared with the ICR currently approved by OMB. This increase is due to an adjustment to the estimate, which corrected for a math error in the previous ICR renewal.

Dated: June 28, 2018.
Gilberto Irizarry,
Acting Director, Office of Emergency Management.

[FR Doc. 2018-15338 Filed 7-17-18; 8:45 am]

BILLING CODE 6560-50-P